DEPARTMENT OF COMMERCE

National Telecommunications and Information Administration

[981203295-3055-08]

RIN 0660-ZA06

Technology Opportunities Program

AGENCY: National Telecommunications and Information Administration, Commerce.

ACTION: Notice of availability of funds.

SUMMARY: The National Telecommunications and Information Administration (NTIA) issues this Notice describing the conditions under which applications will be received under the Technology Opportunities Program (TOP) and how NTIA will select applications for funding.

As an agency of the U.S. Department of Commerce, NTIA is the Executive Branch's principal voice on domestic and international telecommunications and information technology issues. NTIA works to spur innovation, encourage competition, help create jobs and provide consumers with more choices and better quality telecommunications products and services at lower prices.

TOP supports this mission through funding demonstrations of new telecommunications and information applications for the provision of educational, cultural, health care, public information, public safety, or other social services.

DATES: Complete applications for the Fiscal Year 2003 TOP grant program must be either postmarked no later than April 23, 2003, or hand-delivered no later than 5 P.M. Eastern Daylight Time on April 23, 2003, to the respective addresses listed in the ADDRESSES section of this notice. Applications submitted through guaranteed carrier services will be considered postmarked on the date they are submitted to the carrier.

Applications must show proof of mailing consisting of one of the following:

1. A legibly dated U.S. Postal Service postmark;

2. A legible mail receipt with the date of mailing stamped by the U.S. Postal Service; or

3. A dated shipping label, invoice, or receipt from a commercial carrier.

If an application is sent through the U.S. Postal Service, neither of the following will be accepted as proof of mailing:

1. A private metered postmark; or

2. A mail receipt that is not dated by the U.S. Postal Service.

Applicants should note that the U.S. Postal Service does not uniformly provide a dated postmark. Before relying on this method, applicants should check with their local post office.

Due to screening procedures at the Department of Commerce, packages arriving via the United States Postal Service's Priority Mail, First Class, and Parcel Post services are irradiated, which can damage the contents, or delay delivery to the TOP Program Office. Thus, applicants are encouraged to consider the impact of these procedures in selecting their chosen method for application delivery.

Applications will not be accepted via facsimile machine transmission or electronic mail.

Applications with postmarked dates after April 23, 2003, will not be considered in the current grant round and will be returned to the applicant.

ADDRESSES: Completed applications must be mailed, shipped, or sent overnight express to:

Technology Opportunities Program, National Telecommunications and Information Administration, U.S. Department of Commerce, 1401 Constitution Avenue, NW., HCHB, Room 4096, Washington, DC 20230; or hand-delivered to:

Technology Opportunities Program, National Telecommunications and Information Administration, U.S. Department of Commerce, HCHB, Room 1874, 1401 Constitution Avenue, NW., Washington, DC 20230.

Room 1874 is located at entrance #10 on 15th Street NW., between Pennsylvania and Constitution Avenues.

FOR FURTHER INFORMATION CONTACT: Lammot du Pont by telephone: (202) 482-2048; fax: (202) 501-8009; or e-mail: top@ntia.doc.gov.

SUPPLEMENTARY INFORMATION:

Authority

NTIA issues this notice pursuant to Public Law 108-7, the Consolidated Appropriations Resolution, FY 2003.

Catalog of Federal Domestic Assistance (CFDA)

CFDA Number 11.552; Technology Opportunities Program (TOP)

Eligibility Criteria

Non-profit entities, public sector organizations as well as state, local and tribal governments are eligible to apply. Eligible applicants include, but are not limited to, faith-based organizations, national organizations and associations, non-profit community-based organizations, non-profit health care providers, schools, libraries, museums, colleges, universities, public safety providers or other providers of social services.

Individual persons are not eligible to apply.

For-profit organizations are not eligible to apply. They are encouraged, however, to participate as project partners as described in the “Matching Funds Requirements” and “Review Criteria” sections of this Notice.

Applications submitted by those who are or designate themselves as “individuals” or “for-profit organizations” on the Standard Form 424 (SF-424), Application for Federal Assistance, will not be considered in the current grant round and will be returned to the applicant.

Funding Availability

Approximately $12.4 million is available for Federal assistance under a grant. Based on past experience, NTIA expects this year's grant round to be very competitive. In Fiscal Year 2002, NTIA received 741 applications collectively requesting more than $330 million in federal funds. From these applications, the Department of Commerce announced 25 awards totaling $12.4 million in federal funds.

Award Amount

An applicant may request up to a total of $700,000 in funds from NTIA. TOP expects the federal amounts awarded to range from $350,000 to $700,000, with an average of approximately $500,000. The amount awarded covers the duration of the project.

Matching Funds Requirements

Grant recipients under this program will be required to provide matching funds toward the total project cost. Applicants must document their capacity to provide matching funds. Matching funds may be in the form of cash or in-kind contributions.

NTIA will provide up to 50 percent of the total project cost, unless the applicant can document extraordinary circumstances warranting a grant of up to 75 percent. Grant funds under this program are usually released in direct proportion to local matching funds utilized and documented as having been expended.

Generally, federal funds may not be used as matching funds, except as provided by federal statute. If you plan to use funds from a federal agency as matching funds, you should contact the federal agency that administers the funds in question and obtain documentation from that agency's Office of General Counsel to support the use of federal funds for matching purposes.

Completeness of Application

TOP will initially review all applications to determine whether all required elements are present and clearly identifiable. In order to be accepted for review, each application must contain, at a minimum, the following required elements: (1) A Standard Form 424 (SF-424), Application for Federal Assistance, with an original signature, (2) a project narrative, and (3) a budget narrative.

Applications that are missing any of the three required elements with the appropriate signatures will not be considered in the current grant round and will be returned to the applicants.

Standard forms and materials needed to complete an application can be obtained electronically via TOP's Web site at http://www.ntia.doc.gov/top or by contacting the TOP office at (202) 482-2048.

More details regarding the required elements and suggestions for preparing a competitive application are described in the Guidelines for Preparing Applications—Fiscal Year 2003. Applicants can obtain a copy of the Guidelines for Preparing Applications—Fiscal Year 2003, via TOP's Web site at http://www.ntia.doc.gov/top or by contacting the TOP office at (202) 482-2048.

Program Description

As a national program, TOP emphasizes innovation, learning, and diffusion of new ideas and practical knowledge. Through TOP, NTIA provides organizations with opportunities to explore the possibilities that new telecommunications and information technology offer to improve the provision of educational, cultural, health care, public information, public safety, or other social services.

TOP projects demonstrate innovative applications of new telecommunications and information technology to address pressing needs in the public and non-profit sectors. Therefore, TOP expects applicants to present a clear vision and a workable plan to apply technologies to address specific challenges in their communities. Rather than simply requesting funds to build capacity or upgrade existing equipment, each application should describe a project that pinpoints specific problems, proposes creative solutions, and postulates measurable outcomes.

All funded projects must be interactive in that they foster the exchange and sharing of information among individuals and/or groups, as opposed to one-way or broadcast systems. Because these grants will serve as national models for other communities, NTIA expects each project to include provisions for a thorough, independent evaluation that will provide valid and reliable data as well as valuable lessons learned to be shared with others interested in the project.

In previous fiscal years, NTIA supported planning projects. The emphasis for Fiscal Year 2003 is on projects that deploy, use, and evaluate applications of new telecommunications technology. NTIA will, however, support projects that incorporate some planning activities as part of the proposed project.

Limitations on Project Scope

Each TOP project is expected to include a range of activities that support project development, implementation, and evaluation. However, TOP will not support projects whose primary purpose falls into the categories discussed below.

1. Single-Organization Projects. TOP will not support projects whose primary emphasis is on the internal communications needs of a single organization, even if the organization has a considerable number of offices or users in different cities or regions of the country.

2. Infrastructure Development Projects. Every TOP applicant is expected to create a project that describes and provides funding for specific applications of technologies to address important community challenges. Therefore, TOP will not support projects whose primary purpose is to create telecommunications or network infrastructure without significant dedication of resources to specific applications of that infrastructure.

3. Hardware or Software Development Projects. Some projects may require limited software development or the customization or modification of existing software or hardware in order to meet particular end-user requirements or to enable the exchange of information across networks. However, the creation of a software or hardware product cannot be a project's primary purpose.

4. Training Projects. While TOP considers training to be an essential aspect of most projects, TOP will not support projects whose primary purpose is to provide training in the use of software applications, Internet use, or other network technologies.

5. Voice-based Systems. Two-way, interactive voice networks are an important element of existing network systems. Voice as a means for conveying information and voice input tools play critical roles in ensuring people with disabilities have access to network technology. However, TOP will not support projects whose primary purpose is to either build or install voice-based communication networks such as call centers, two-way radio networks, enhanced-911 and 311 systems, or 800 MHZ radio systems.

6. Curriculum Development Projects. As indicated in the “Eligibility Criteria” section of this Notice, K-12 schools and non-profit entities that provide lifelong learning opportunities are eligible to apply for grants. However, TOP will not support projects whose primary purpose is the development of curricula for K-12 students.

In addition, NTIA places a priority on avoiding duplication of other federal initiatives. As indicated in the “Selection Procedures” section of this notice, the selection official will recommend awards based, in part, on avoidance of redundancy with initiatives of other federal agencies. Therefore, applicants should carefully review other federal initiatives, and, if necessary, describe how their project would not be eligible for support by other federal initiatives. For assistance in researching other federal initiatives, please see the discussion of Electronic Information in the “Other Information” section of this Notice.

Review Criteria

Reviewers will analyze and rate each application using the following criteria. The relative weights of each criterion are identified in parentheses.

1. Project Purpose (20%)

Each application must describe a clearly defined project that uses telecommunications and information technology for the provision of educational, cultural, health care, public information, public safety, or other social services.

In assessing the project purpose, reviewers will examine the degree to which the applicant clearly describes and convincingly links three major elements: (1) The problem(s) to be addressed, (2) the proposed solution, and (3) the anticipated outcomes of the project.

Reviewers will assess the evidence and severity of the identified problem(s) and need(s). With respect to the proposed solution, reviewers will assess the degree to which the project will address the identified problem(s). With respect to anticipated project outcomes, reviewers will assess the degree to which the proposed results and outcomes of the project are both realistic and measurable. Reviewers will also assess the degree to which an applicant convincingly links the three major elements-problem(s), solution(s), and outcome(s).

2. Innovation (20%)

Reviewers will assess innovation by examining both the technology to be used and the application of the technology in a particular setting, to serve a particular population, or to solve a particular problem. TOP defines innovation broadly. For example, projects that involve imaginative partnerships, the introduction of new business processes designed to offer more effective services, untested strategies for overcoming access barriers, or new techniques that transform inter-organizational relationships can all be considered innovative. TOP encourages applicants to experiment with leading edge technologies. It is, however, the creativity behind the application of the technology to meet community needs that ultimately determines the level of innovation.

Using experience gained in their respective fields, reviewers will examine each project in a national context and evaluate how an application compares with, complements, and improves on what is known about using telecommunications and information technology for the provision of educational, cultural, health care, public information, public safety, or other social services.

3. Community Involvement (20%)

Each application will be rated on the level of community involvement in the development and implementation of the proposed project. Reviewers will:

(1) Analyze the applicant's partnerships to ensure that they include linkages among unaffiliated organizations (from the public, non-profit, or private sectors) as an ongoing and integral part of project planning and implementation. TOP considers partners to be organizations that supply cash, in-kind resources (including personnel, equipment, facilities, etc.), and/or are actively involved in the planning and implementation of the project;

(2) consider the degree of attention paid to the needs, skills, working conditions, and living environments of the targeted end users.¹ Reviewers will consider the extent to which applicants involve representatives from a broad range of potential users in both the design and implementation of the project and consider the varying degrees of abilities of all end users, including individuals with disabilities. Reviewers will also assess the degree to which the project addresses barriers which limit a community's or a group's access to network technologies. Finally, reviewers will assess the applicant's plans for training end users and upgrading their skills; and

¹ An “end user” is an individual who directly uses the network technology.

(3) examine the steps the applicant has taken to include and sustain the involvement of a variety of community stakeholders. Reviewers will look for documented evidence of demand—from the community, end users, and potential beneficiaries—for the services proposed by the project.

4. Evaluation and Dissemination (15%)

Each application will be rated on its proposed plans for evaluating the project and sharing the knowledge learned. Reviewers will assess the extent to which the applicant's research or evaluation design: (1) Provides for continuous feedback for project planning, implementation, review, and revision; (2) addresses the problems, solutions, and anticipated outcomes described in the project purpose; (3) proposes a research design that yields valid and reliable findings; (4) captures lessons learned and sufficient descriptive data so that others may easily adapt and replicate the project; and (5) meets TOP's requirements for an independent evaluation as described in the “Reporting Requirements” section of this Notice.

In assessing evaluation, reviewers will examine:

(1) The research design and methodology;

(2) evaluation questions, data collection, and data analysis plans;

(3) the qualifications of any staff or external evaluators working on the evaluation; and

(4) the allocation of resources for implementing the evaluation and reporting project findings.

With respect to dissemination of the lessons learned, reviewers will assess:

(1) the extent to which the project would be easy to replicate or adapt, based on considerations such as cost and complexity;

(2) the applicant's plans and budget resources dedicated to disseminate actively the best practices and lessons learned from the project's successes and failures; and

(3) the capability and experience of an applicant or their partner organizations to reach communities across the country and disseminate their findings.

5. Project Feasibility (15%)

In assessing the feasibility of each application, reviewers will focus on five issues: The technical approach, the qualifications of the project staff, the implementation schedule, plans for protecting privacy, and the applicant's plan for sustaining the project beyond the grant period.

(1) In assessing the technical approach, reviewers will examine the degree to which the proposed system offers advantages over established approaches to addressing the specified problems and would work and operate with other systems. In addition, reviewers will assess the technological alternatives that have been considered; designs for system maintenance and periodic upgrades; and plans for project expansion. Applicants are expected to make use of existing infrastructure and commercially available telecommunications services, unless extraordinary circumstances require the construction of new network facilities.

(2) In assessing the qualifications of the project team, reviewers will assess the applicant and its partners to determine if they have the resources, expertise, and experience necessary to undertake, evaluate, and complete the project and disseminate results within the proposed period.

(3) Reviewers will assess the degree to which the proposed project, from implementation through evaluation, will be completed in the proposed time frame.

(4) Reviewers will evaluate the applicant's plans to safeguard the privacy of the project's end users and others affected by the project.

(5) Finally, reviewers will examine the applicant's strategies to sustain the project after the completion of the grant.

6. Project Budget (10%)

Reviewers will analyze the budget in terms of clarity and cost-effectiveness. Reviewers will also assess the reasonableness of the proposed budget and whether the allocation of funds is sufficient to complete the tasks outlined in the project narrative.

Eligible Costs

Eligible Costs. Allowable costs incurred under approved projects shall be determined in accordance with applicable federal cost principles, i.e., OMB Circulars A-21, A-87, A-122, or Appendix E of 45 CFR part 74. If included in the approved project budget, TOP will allow costs for personnel; fringe benefits; computer hardware, software, and other end-user equipment; telecommunication services and related equipment; consultants, evaluators, and other contractual items; travel; rental of office equipment, furniture, and space; and supplies.

All costs must be reasonable and directly related to the project.

Ineligible Costs

Costs associated with the construction or major renovation of buildings are not eligible. While costs for the construction of new network facilities are eligible, applicants are expected to make use of existing infrastructure and commercially available telecommunications services. Only under extraordinary circumstances will the construction of new network facilities be approved.

Costs for professional services are also ineligible. TOP defines professional services as activities delivered over a network that would otherwise be provided in a face-to-face setting such as teaching students, counseling clients, providing direct patient care, or interpreting services, etc. For example, if the project proposes to create a telemedicine network, the costs of setting up, maintaining, and evaluating the use of the network are eligible, but payment for the time or services of physicians or other health professionals providing care over the network is not an eligible cost.

Note that costs ineligible for TOP support may not be included as part of the applicant's matching fund contribution.

In addition, Pub. L. 108-7, the Consolidated Appropriations Resolution, FY 2003, places restrictions on eligible project costs for applicants that are recipients of Universal Service Fund discounts and applicants receiving assistance from the Department of Justice's Regional Information Sharing Systems Program as part of the project costs. The statute provided:

That, notwithstanding any other provision of law, no entity that receives telecommunications services at preferential rates under section 254(h) of the Act (47 U.S.C. 254(h)) or receives assistance under the regional information sharing systems grant program of the Department of Justice under part M of title I of the Omnibus Crime Control and Safe Streets Act of 1968 (42 U.S.C. 3796h) may use funds under a grant under this heading to cover any costs of the entity that would otherwise be covered by such preferential rates or such assistance, as the case may be.

Accordingly, recipients of the above-described preferential rates or assistance are prohibited from including any costs that would be covered by such preferential rates or assistance in their proposed TOP grant budget. More details on this restriction can be found in the Guidelines for Preparing Applications—Fiscal Year 2003.

Award Period

Applicants may propose projects that last a minimum of 18 months and will be completed by 36 months. While the completion time will vary depending on the complexity of the project, NTIA has found that most grant recipients require at least two years to complete and evaluate fully their projects.

Selection Procedures

NTIA anticipates the processing and selection of applications for funding will require six months. The selection process involves four stages outlined below:

1. During the first stage, each eligible application will be reviewed by a panel of outside peer reviewers, who have demonstrated expertise in both the programmatic and technological aspects of the application. The peer review panel members will evaluate applications according to the review criteria provided in this Notice and provide ratings to the program staff. As discussed below, these ratings constitute one of the selection factors to be used by the TOP Director when preparing the slate of recommended grant awards.

2. Upon completion of the external peer review process, program staff will analyze applications considered for award to assess: (1) Whether a proposed project meets the program's funding scope as described in the section entitled “Limitations on Project Scope”; (2) the eligibility of costs and matching funds included in an application's budget; and (3) the extent to which an application complements or duplicates projects previously funded or under consideration by NTIA or other federal programs.²

² See discussion of “Eligible Costs” and “Matching Funds Requirements” in this Notice. Information on previously funded grants is available from the TOP. In the section “Other Information” of this notice, details are available on how to access this information.

The TOP Director then prepares and presents a slate of recommended grant awards to the Office of Telecommunications and Information Applications' (OTIA) Associate Administrator for review and approval.³ The Director's recommendations and the Associate Administrator's review and approval will take into account the following selection factors:

³ The Office of Telecommunication and Information Applications is the division of the National Telecommunications and Information Administration that supervises NTIA's grant awards programs.

(1) The evaluations of the outside peer reviewers;

(2) the analysis of program staff;

(3) the degree to which the proposed grants meet the program's purpose as described in the section entitled “Program Description”;

(4) the geographic distribution of the proposed grant awards;

(5) the variety of technologies and diversity of uses of the technologies employed by the proposed grant awards;

(6) the provision of access to and use of telecommunications and information technologies by rural communities and other underserved groups;

(7) avoidance of redundancy and conflicts with the initiatives of other Federal agencies; and,

(8) the availability of funds.

3. Upon approval by the OTIA Associate Administrator, the Director's recommendations will then be presented to the Selecting Official, the NTIA Administrator. The NTIA Administrator selects the applications to be negotiated for possible grant award taking into consideration the Director's recommendations and the degree to which the slate of applications, taken as a whole, satisfies the selection factors described above and the program's stated purposes as set forth in the section entitled “Program Description.”

4. After applications have been selected in this manner, negotiations will take place between TOP staff and the applicant. These negotiations are intended to resolve any differences that exist between the applicant's original request and what TOP proposes to fund, and if necessary, to clarify items in the application. Not all applicants who are contacted for negotiation will necessarily receive a TOP award. Final selections made by the Administrator will be based upon the recommendations by the Director and the OTIA Associate Administrator and the degree to which the slate of applications, taken as a whole, satisfies the program's stated purposes as set forth in the section entitled “Program Description,” upon the conclusion of negotiations.

Use of Program Income

Applicants are advised that any program income generated by a proposed project is subject to special conditions. Anticipated program income must be documented appropriately in the project budget. In addition, should an application be funded, unanticipated program income must be reported to TOP, and the budget for the project must be renegotiated to reflect receipt of this program income. Program income means gross income earned by the recipient that is either directly generated by a supported activity, or earned as a result of the award. In addition, federal policy prohibits any recipient or subrecipient receiving federal funds from the use of equipment acquired with these funds to provide services to non-federal outside organizations for a fee that is less than private companies charge for equivalent services. This prohibition does not apply to services provided to outside organizations at no cost.

Policy on Sectarian Activities

Applicants are advised that on December 22, 1995, NTIA issued a notice in the Federal Register on its policy with regard to sectarian activities. Under NTIA's policy, while religious activities cannot be the essential thrust of a grant, an application will not be ineligible where sectarian activities are only incidental or attenuated to the overall project purpose for which funding is requested. Applicants for whom this policy may be relevant should read the policy that was published in the Federal Register at 60 FR 66491, Dec. 22, 1995.

Reporting Requirements

To ensure compliance with federal regulations and collect systemic evaluation data on each project, successful TOP applicants have a number of basic reporting requirements once they are awarded a grant. At project outset, TOP grantees provide detailed baseline information on the project objectives, goals, partners, and populations served. Grantees then provide periodic financial reports and updates on project activities. At project completion, TOP grantees must also provide a closeout report.

Finally, because evaluation results play such a critical role in helping other organizations learn about what works well and what does not, each TOP-supported project will provide NTIA a final evaluation report.

To ensure the validity of the findings, the final evaluation report must be completed by an independent evaluator or team of evaluators who are not in a direct reporting relationship with the applicant.⁴ TOP will make copies of the final evaluation report available to the public.

⁴ In large institutions, such as universities, colleges, and foundations, an independent evaluator can include a representative from departments not associated with the applicant. In addition, TOP's requirement for a grantee have an independent evaluator develop the final evaluation report does not preclude an applicant from conducting the evaluation in conjunction with an independent evaluator.

Waiver Authority

It is the general intent of NTIA not to waive any of the provisions set forth in this Notice. However, under extraordinary circumstances and when it is in the best interest of the federal government, NTIA, upon its own initiative or when requested, may waive the provisions in this Notice. Waivers may only be granted for requirements that are discretionary and not mandated by statute. Any request for a waiver must set forth the extraordinary circumstances for the request and be included in the application or sent to the address provided in the Addresses section above.

As noted in the Dates section above, complete applications for the Fiscal Year 2003 TOP grant program must be either postmarked no later than April 23, 2003, or hand-delivered no later than 5 p.m. Eastern Daylight Time on April 23, 2003, to the respective addresses listed above. NTIA will not waive this requirement.

Intergovernmental Review

Applications under this program are subject to Executive Order 12372, “Intergovernmental Review of Federal Programs.” All applicants are required to submit a copy of their application to their state Single Point of Contact (SPOC) offices, if they have one. For information on contacting state SPOC offices, refer to the Guidelines for Preparing Applications—Fiscal Year 2003.

Other Information

Electronic Information. Information about NTIA, TOP, and other resources to help prepare an application, including this document and the Guidelines for Preparing Applications—Fiscal Year 2003, can be retrieved electronically via the Internet using the World Wide Web at http://www.ntia.doc.gov/top. This document can be provided in alternate formats, including braille. If you need assistance please contact TOP at (202) 482-2048 or top@ntia.doc.gov.

Through TOP's online tools available at http://www.ntia.doc.gov/top, applicants can prepare and print a number of the required forms. Please note that applicants must submit all application materials (even those forms prepared online) in hard copy with appropriate signatures.

As indicated above, each application must contain, at a minimum, the following required elements: (1) A Standard Form 424 (SF-424), Application for Federal Assistance, with an original signature, (2) a project narrative, and (3) a budget narrative. Applications that are missing any of these three required elements with the appropriate signatures will not be accepted for review and will be returned to the applicants.

In addition, applicants can use TOP's online tools to provide an electronic version of their executive summary that will be available to the public. TOP's online tools are optional and not required to prepare an application.

Submission Requirements. TOP requests one original and five copies of the application. Applicants for whom the submission of five copies presents financial hardship may submit one original and two copies of the application.

Disposition of Unsuccessful Applications. Applications accepted for review for the Fiscal Year 2003 grant round will be stored at the Department of Commerce until the start of the next grant competition or one year, whichever period is longer. At the end of that period, the applications will be destroyed.

Sensitive Information. Because of the high level of public interest in projects supported by TOP, the program anticipates receiving requests for copies of successful applications. Applicants are hereby notified that the applications they submit are subject to the Freedom of Information Act. To assist NTIA in making disclosure determinations, applicants may identify sensitive information and label it “confidential.”

Human Subjects Research Protection. The Department of Commerce, through part 27 of Title 15 of the Code of Federal Regulations, requires that all applications awarded under the TOP ensure protections for any human subjects involved in research.

If an application is considered for funding, the grant applicant will be asked to submit appropriate documentation of IRB approval or exemption status to the Federal Program Officer for approval by Department officials. More details on human subjects research protection are available through the TOP's Web site at http://www.ntia.doc.gov/top and the Guidelines for Preparing Applications—Fiscal Year 2003.

Grant Requirements. The Department of Commerce Pre-Award Notification Requirements for Grants and Cooperative Agreements contained in the Federal Register notice of October 1, 2001 (66 FR 49917), as amended by Federal Register notice published on October 30, 2002 (67 FR 66109), is applicable to this solicitation.

Limited English Proficiency. Executive Order 13166, “Improving Access to Services for Persons with Limited English Proficiency,” requires all Departments and agencies to eliminate, to the maximum extent possible, limited English proficiency as an artificial barrier to the full and meaningful participation by beneficiaries in federally assisted and federally conducted programs and activities. The Department of Commerce is in the process of implementing this Executive Order, and all FY 2003 TOP grantees will be required to comply with the Department's final guidelines.

Other Requirements. It has been determined that this Notice is not significant for purposes of E.O. 12866.

Because notice and comment are not required under 5 U.S.C. 553, or any other law, for notices relating to public property, loans, grants, benefits or contracts (5 U.S.C. 553(a)), a Regulatory Flexibility Analysis is not required and has not been prepared for this Notice, 5 U.S.C. 601 et seq.

It has been determined that this Notice does not contain policies with Federalism implications as that term is defined in E.O. 13132.

This document contains collection-of-information requirements subject to the Paperwork Reduction Act (PRA). The use of Standard Forms 424, 424A, 424B, and SF-LLL have been approved by OMB under the respective control numbers 0348-0043, 0348-0044, 0348-0040, and 0348-0046.

Notwithstanding any other provision of law, no person is required to respond to, nor shall any person be subject to a penalty for failure to comply with, a collection of information subject to the Paperwork Reduction Act, unless that collection displays a currently valid OMB control number.

Bernadette McGuire-Rivera,
Associate Administrator, Office of Telecommunications and Information Applications.

[FR Doc. 03-6233 Filed 3-14-03; 8:45 am]

BILLING CODE 3510-60-P